FEDERAL EMERGENCY MANAGEMENT AGENCY

Fee Schedule for Processing Requests for Map Changes, for Flood Insurance Study Backup Data, and for National Flood Insurance Map and Insurance Products

AGENCY: Federal Emergency Management Agency (FEMA).

ACTION: Notice.

SUMMARY: This notice contains the revised fee schedules for processing certain types of requests for changes to National Flood Insurance Program (NFIP) maps, for processing requests for Flood Insurance Study (FIS) technical and administrative support data, and for processing requests for particular NFIP map and insurance products. The changes in the fee schedules will allow FEMA to reduce further the expenses to the NFIP by recovering more fully the costs associated with processing conditional and final map change requests; retrieving, reproducing, and distributing technical and administrative support data related to FIS analyses and mapping; and producing, retrieving, and distributing particular NFIP map and insurance products.

DATES: The revised fee schedules are effective for all requests dated September 1, 2002, or later.

FOR FURTHER INFORMATION CONTACT: Matthew B. Miller, P.E., Chief, Hazards Study Branch, Federal Insurance and Mitigation Administration, 500 C Street SW., Washington, DC 20472; by telephone at (202) 646-3461 or by facsimile at (202) 646-4596 (not toll-free calls); or by email at matthew.miller@fema.gov.

SUPPLEMENTARY INFORMATION: This notice contains the revised fee schedules for processing certain types of requests for changes to NFIP maps, requests for FIS technical and administrative support data, and requests for particular NFIP map and insurance products.

Effective Dates. The revised fee schedule for map changes is effective for all requests dated September 1, 2002, or later. The revised fee schedule supersedes the current fee schedule, which was established on June 1, 2000.

The revised fee schedule for requests for FIS backup data also is effective for all requests dated September 1, 2002, or later. The revised fee schedule supersedes the current fee schedule, which was established on June 1, 2000.

The revised fee schedule for requests for particular NFIP map and insurance products, which are available through the FEMA Map Service Center (MSC), is effective for all written requests, on-line Internet requests made through the FEMA Flood Map Store, and all telephone requests received on or after September 1, 2002. The revised fee schedule supersedes the current fee schedule, which was established on May 1, 2002.

Evaluations Performed. To develop the revised fee schedule for conditional and final map change requests, FEMA evaluated the actual costs of reviewing and processing requests for Conditional Letters of Map Amendment (CLOMAs), Conditional Letters of Map Revision Based on Fill (CLOMR-Fs), Conditional Letters of Map Revision (CLOMRs), Letters of Map Revision Based on Fill (LOMR-Fs), Letters of Map Revision (LOMRs), and Physical Map Revisions (PMRs).

To develop the revised fee schedule requests for FIS technical and administrative support data, FEMA evaluated the actual costs of retrieving, reproducing, and distributing archived data in seven categories. These categories are discussed in more detail below.

To develop the revised fee schedule for requests for particular NFIP map and insurance products, FEMA (1) evaluated the actual costs incurred at the MSC for producing, retrieving, and distributing those products; (2) analyzed historical sales, cost data, and product unit cost for unusual trends or anomalies; and (3) analyzed the effect of program changes, new products, technology investments, and other factors on future sales and product costs. The products covered by this notice are discussed in detail below.

Periodic Evaluations of Fees. A primary component of the fees is the prevailing private-sector rates charged to FEMA for labor and materials. Because these rates and the actual review and processing costs may vary from year to year, FEMA will evaluate the fees periodically and publish revised fee schedules, when needed, as notices in the Federal Register.

Fee Schedule for Requests for Conditional Letters of Map Amendment and Conditional and Final Letters of Map Revision Based on Fill

Based on a review of actual cost data for Fiscal Year 2000 and Fiscal Year 2001, FEMA established the following review and processing fees, which are to be submitted with all requests that are not otherwise exempted under 44 CFR 72.5:

Request for single-lot/single-structure CLOMA and CLOMR-F | $500
Request for single-lot/single-structure LOMR-F | 425
Request for single-lot/single-structure LOMR-F based on as-built information (CLOMR-F previously issued by FEMA) | 325
Request for multiple-lot/multiple-structure CLOMA | 700
Request for multiple-lot/multiple-structure CLOMR-F and LOMR-F | 800
Request for multiple-lot/multiple-structure LOMR-F based on as-built information (CLOMR-F previously issued by FEMA) | 700

Fee Schedule for Requests for Conditional Map Revisions

Based on a review of actual cost data for Fiscal Year 2000 and Fiscal Year 2001, FEMA established the following review and processing fees, which are to be submitted with all requests that are not otherwise exempted under 44 CFR 72.5:

Request based on new hydrology, bridge, culvert, channel, or combination thereof | $4,000
Request based on levee, berm, or other structural measure | 4,500

Fee Schedule for Requests for Map Revisions

Based on a review of actual cost data for Fiscal Year 2000 and Fiscal Year 2001, FEMA established the following review and processing fees, which are to be submitted with all requests. Unless the request is otherwise exempted under 44 CFR 72.5, requesters must submit the review and processing fees shown below with requests for LOMRs and PMRs dated September 1, 2002, or later, that are not based on structural measures on alluvial fans.

Request based on bridge, culvert, channel, or combination thereof | $4,200
Request based on levee, berm, or other structural measure | 6,000
Request based on as-built information submitted as followup to CLOMR | 3,800

Fees for Conditional and Final Map Revisions Based on Structural Measures on Alluvial Fans

FEMA has maintained $5,000 as the initial fee for requests for LOMRs and CLOMRs based on structural measures on alluvial fans. FEMA also will continue to recover the remainder of the review and processing costs by invoicing the requester before issuing a determination letter, consistent with current practice. The prevailing private-sector labor rate charged to FEMA ($50 per hour) will continue to be used to calculate the total reimbursable fees.

Fee Schedule for Requests for Flood Insurance Study Backup Data

Non-exempt requesters of FIS technical and administrative support data must submit fees shown below with requests dated September 1, 2002, or later. These fees are based on the complete recovery costs to FEMA for retrieving, reproducing, and distributing the data, as well as maintaining the library archives, and for collecting and depositing fees. FEMA maintains the current fee schedule, as indicated in the Federal Register notice published on May 3, 2000, at 65 FR 25726—25728.

All entities except the following will be charged for requests for FIS technical and administrative support data:

• Private architectural-engineering firms under contract to FEMA to perform or evaluate studies and restudies;

• Federal agencies involved in performing studies and restudies for FEMA (i.e., U.S. Army Corps of Engineers, U.S. Geological Survey, Natural Resources Conservation Service, and Tennessee Valley Authority);

• Communities that have supplied the Digital Line Graph base to FEMA and request the Digital Line Graph data (Category 6 below);

• Communities that request data during the statutory 90-day appeal period for an initial or revised FIS for that community;

• Mapped participating communities that request data at any time other than during the statutory 90-day appeal period, provided the data are requested for use by the community and not a third-party user; and

• State NFIP Coordinators, provided the data requested are for use by the State NFIP Coordinators and not a third-party user.

FEMA has established seven categories into which requests for FIS backup data are separated. These categories are:

Category 1—Paper copies, microfiche, or diskettes of hydrologic and hydraulic backup data for current or historical FISs;

Category 2—Paper or mylar copies of topographic mapping developed during FIS process;

Category 3—Paper copies or microfiche of survey notes developed during FIS process;

Category 4—Paper copies of individual Letters of Map Change (LOMCs);

Category 5—Paper copies of Preliminary Flood Insurance Rate Map or Flood Boundary and Floodway Map panels;

Category 6—Computer tapes or CD-ROMs of Digital Line Graph files; and

Category 7—Computer diskettes and user's manuals for FEMA computer programs.

Under the current fee schedule, a non-refundable fee of $120 is charged to initiate a request under Categories 1, 2, and 3 above. This fee covers the preliminary costs of research and retrieval. If the data requested are available and the request is not cancelled, the final fee is calculated as a sum of a standard per-product charge plus a per-case surcharge of $93, designed to recover the cost of library maintenance and archiving. The total costs of processing requests under Categories 1, 2, and 3 will vary, based on the complexity of the research involved in retrieving the data and the volume and medium of data to be reproduced and distributed. The initial fee will be applied against the total costs to process the request, and FEMA will invoice the requester for the balance before the data are provided. No data will be provided to a requester until all required fees have been paid.

No initial fee is required to initiate a request for data under Categories 4 through 7. Requesters will be notified by telephone about the availability of the data and the fees associated with requested data.

As with requests for data under Categories 1, 2, and 3, no data will be provided to requesters until all required fees are paid. A flat user fee for each of these categories of requests, shown below, will continue to be required.

Request Under Category 4 (First Letter) | $40
Request Under Category 4 (Each additional letter) | 10
Request Under Category 5 (First panel) | 35
Request Under Category 5 (Each additional panel) | 2
Request Under Category 6 (per county) | 150
Request Under Category 7 (per copy) | 25

Fee Schedule for Requests for Map and Insurance Products

The MSC distributes a variety of NFIP map and insurance products to a broad range of customers, including Federal, State, and local government officials; real estate professionals; insurance providers; appraisers; builders; land developers; design engineers; surveyors; lenders; homeowners; and other private citizens. As established in the current fee schedule, made effective on May 1, 2002, the MSC distributes the following products:

• Paper (printed) copies of Flood Hazard Boundary Maps (FHBMs);

• Paper (printed) copies of Flood Insurance Rate Maps (FIRMs);

• Paper (printed) copies of Digital Flood Insurance Rate Maps (DFIRMs);

• Paper (printed) copies of Flood Insurance Studies (FISs), including the narrative report, tables, Flood Profiles, and other graphics;

• Paper (printed) copies of Flood Boundary and Floodway Maps (FBFMs), when they are included as an exhibit in the FIS;

• Digital Q3 Flood Data files on CD-ROM, which FEMA developed by scanning the published FIRM and vectorizing a thematic overlay of flood risks;

• Digital Q3 Flood Data files on CD-ROM for Coastal Barrier Resource Areas (CBRA Q3 Flood Data files);

• Community Status Book, which is a report generated by FEMA's Community Information System database that provides pertinent map status information for all identified communities;

• Flood Map Status Information Service (FMSIS), through which FEMA provides status information for effective NFIP maps on CD-ROM;

• Letter of Map Change (LOMC) Subscription Service, through which FEMA makes certain types of LOMCs available biweekly on CD-ROM;

• NFIP Insurance Manual (Full Manual), which provides vital NFIP information for insurance agents nationwide;

• NFIP Insurance Manual (Producer's Edition), which is used for reference and training purposes;

• Digital copies of Flood maps available on CD-ROM and downloadable from the web; which can be purchased by panel or in community, county or state kits;

• Digital copies of FISs, including the narrative report, tables, Flood Profiles, and other graphics, on CD-ROM and downloadable from the web;

• F-MIT Basic Version 1.0, which is a view tool for map images, on CD-ROM;

• F-MIT Basic Version 1.0, which is a view tool for map images, downloadable from the web; and

• FEMA's Guidelines and Specifications for Flood Hazard Mapping Partners on CD-ROM.

For more information on the map and insurance products available from the MSC, interested parties are invited to visit the MSC Web site at http://www.fema.gov/msc.

There are no changes in the processing fees or shipping costs for any of the other products that the MSC distributes. Federal, State, and local governments continue to be exempt from paying fees for the map products. The fee schedule for the current and new products are shown in the table below.

Product or service | Fee | Shipping
Paper copies of FHBM, FIRM, DFIRM, or FBFM panels | $2.00 per map panel | $0.37 per panel for the first 10 panels plus $0.03 for each additional panel.
Paper copies of FIS (not including FBFM panels that are included as exhibit) | $5.00 per FIS volume plus $2.00 per floodway map | $4.00 for the first study volume plus $0.40 for each additional study.
On-line Flood maps downloaded from the FEMA web site | $1.50 per map panel | None.
On-line FIS downloaded from the FEMA web site | $4.00 per study plus $1.50 per floodway map | None.
F-MIT Basic Version 1.0 (view tool for map images) on the web | Free | Not Applicable.
Flood maps available on CD-ROM | $1.50 per map panel | $3.65 for the first 4 CD-ROMs plus $0.10 for each additional CD-ROM.
FIS available on CD-ROM | $4.00 per FIS volume plus $1.50 per floodway map | $3.65 for the first 4 CD-ROMs plus $0.10 for each additional CD-ROM.
Priority Handling Charge—added to regular charge | $33.00 per order | Not Applicable.
F-MIT Basic Version 1.0 on CD-ROM (view tool for map images) | Free | $3.65.
Q3 Flood Data Files | $50.00 per CD-ROM | $3.65 for the first 4 CD-ROMs, plus $0.10 for each additional CD-ROM in the same order.
CBRA Q3 Flood Data Files | $50.00 per CD-ROM or $200.00 for all 5 Q3 CDs | $3.65 for the first 4 CD-ROMs, plus $0.10 for each additional CD-ROM in the same order.
Community Status Book (Individual Orders) | $2.50 per state $20.50 for entire U.S | $1.00 per state $4.26 for entire U.S.
Community Status Book (Annual Subscription) | $50.00 per state $250.00 for entire U.S | Not applicable.
FMSIS (Individual Orders) | $13 per state $38 for entire U.S | $3.65 for the first 4 CD-ROMs, plus $0.10 for each additional CD-ROM in the same order.
FMSIS (Annual Subscription) | $148 per state $419 for entire U.S | Not applicable.
LOMC Subscription Service (Individual Orders) | $85 per issue | $3.65 for the first 4 CD-ROMs, plus $0.10 for each additional CD-ROM in the same order.
LOMC Subscription Service (Annual Subscription) | $2,000 | Not applicable.
NFIP Insurance Manual (Full Manual) | $25.00 per subscription for complete manual | Not applicable.
NFIP Insurance Manual (Producer's Edition) | $15.00 per subscription | Not applicable.
FEMA's Guidelines and Specifications for Flood Hazard Mapping Partners on CD-ROM | $2.60 | $3.65.

Payment Submission Requirements

Fee payments for non-exempt requests must be made in advance of services being rendered. These payments shall be made in the form of a check or money order or by credit card payment. Checks and money orders must be made payable, in U.S. funds, to the National Flood Insurance Program.

FEMA will deposit all fees collected to the National Flood Insurance Fund, which is the source of funding for providing these services.

Dated: July 25, 2002.
Howard Leikin,
Deputy Administrator, Federal Insurance and Mitigation Administration.

[FR Doc. 02-19450 Filed 7-31-02; 8:45 am]

BILLING CODE 6718-04-P